DEPARTMENT OF COMMERCE

National Oceanic and Atmospheric Administration

RIN 0648-XA077

Endangered Species; File Nos. 13307, 13544, and 14586

AGENCY: National Marine Fisheries Service (NMFS), National Oceanic and Atmospheric Administration (NOAA), Commerce.

ACTION: Issuance of permit and permit modifications.

SUMMARY: Notice is hereby given that NMFS has issued a permit and two permit modifications to take sea turtles and marine mammals for purposes of scientific research.

ADDRESSES: The permit and related documents are available for review upon written request or by appointment in the following offices:

Permits, Conservation and Education Division, Office of Protected Resources, NMFS, 1315 East-West Highway, Room 13705, Silver Spring, MD 20910; phone (301) 713-2289; fax (301) 713-0376; and Southeast Region, NMFS, 263 13th Ave South, St. Petersburg, FL 33701; phone (727) 824-5312; fax (727) 824-5309.

FOR FURTHER INFORMATION CONTACT: Amy Hapeman or Amy Sloan, (301) 713-2289.

SUPPLEMENTARY INFORMATION: On March 3, 2010, notice was published in the Federal Register (75 FR 9580) that a request for a scientific research permit to take sea turtles and marine mammals had been submitted by Jeanette Wyneken, Florida Atlantic University, Boca Raton, FL (File No. 14586). On March 3, 2010, notice was published in the Federal Register (75 FR 9580) that a modification of Permit No. 13544, issued April 17, 2009 (74 FR 18354), had been requested by Jeffrey Schmid, PhD, Conservancy of Southwest Florida, Naples, FL, for sea turtle research. On April 1, 2010, notice was published in the Federal Register (75 FR 16428) that a modification of Permit No. 13307-01, issued July 11, 2008 (73 FR 39950), had been requested by Kristen Hart, PhD, USGS, Davie, L, for sea turtle research. The requested permit and permit modifications have been issued under the authority of the Endangered Species Act of 1973, as amended (ESA; 16 U.S.C. 1531 et seq.), the regulations governing the taking, importing, and exporting of endangered and threatened species (50 CFR parts 222-226); and, for Permit No. 14586, the Marine Mammal Protection Act of 1972, as amended (16 U.S.C. 1361 et seq.) and the regulations governing the taking and importing of marine mammals (50 CFR part 216).

Permit No. 14586 authorizes the permit holder to annually collect baseline data regarding the abundance and distribution of cetaceans [numerous non-listed species and endangered fin (Balaenoptera physalus), sperm (Physeter macrocephalus), humpback (Megaptera novaengliae), and North Atlantic right (Eubalaena glacialis) whales] and sea turtles [leatherback (Dermochelys coriacea), loggerhead (Caretta caretta), green (Chelonia mydas), hawksbill (Eretmochelys imbricata), and Kemp's ridley (Lepidochelys kempii)] in the Straits of Florida off Florida's southeast coast. Research is authorized to occur before, during, and after ocean energy technology testing via vessel and aerial surveys. The permit expires on November 30, 2015.

Permit No. 13544 authorizes the permit holder to characterize the aggregations of Kemp's ridley, loggerhead, green, and hawksbill sea turtles in the nearshore waters of Lee County in southwest Florida by annually performing capture, weighing, passive integrated transponder (PIT) tagging, biopsy sampling; and for subsets of animals, fecal sampling and external tagging). The modified permit authorizes researchers to additionally satellite tag a subset of Kemp's ridley and loggerhead sea turtles to determine their seasonal distribution and possible migrations in the southeastern Gulf of Mexico. The permit modification is valid until the permit expires on April 30, 2014.

Permit No. 13307-01 authorizes the permit holder to addresses fine-scale temporal and spatial patterns of sea turtle habitat use, ecology, and genetic origin within the Dry Tortugas National Park by annually capturing, weighing, flipper tagging, PIT tagging, and sampling (blood, tissue, feces, and lavage) green, hawksbill, and loggerhead sea turtles, a subset of which may be externally tagged with satellite and acoustic transmitters. The permit modification increases the number of green sea turtles that may be captured to 80 per year due to the high rate of recent capture success. The modification is valid until the permit expires on June 30, 2013.

Issuance of these permits, as required by the ESA, was based on a finding that such permits (1) Were applied for in good faith, (2) will not operate to the disadvantage of such endangered or threatened species, and (3) are consistent with the purposes and policies set forth in section 2 of the ESA.

Dated: December 3, 2010.
P. Michael Payne,
Chief, Permits, Conservation and Education Division, Office of Protected Resources, National Marine Fisheries Service.

[FR Doc. 2010-31005 Filed 12-8-10; 8:45 am]

BILLING CODE 3510-22-P